DEPARTMENT OF HOMELAND SECURITY

U.S. Customs and Border Protection

Notice of Cancellation of Customs Broker License

AGENCY: U.S. Customs and Border Protection, Department of Homeland Security.

ACTION: General Notice.

SUMMARY: Pursuant to section 641 of the Tariff Act of 1930, as amended, (19 U.S.C. 1641) and the U.S. Customs and Border Protection regulations (19 CFR 111.51), the following Customs broker license and all associated permits is cancelled with prejudice:

Name | License No. | Issuing port
Gerardo Chavez | 20014 | San Diego.

Dated: December 6, 2012.
Allen Gina,
Assistant Commissioner, Office of International Trade.

[FR Doc. 2012-29913 Filed 12-11-12; 8:45 am]

BILLING CODE 9111-14-P